DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of May 15, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Hendry County, Florida and Incorporated Areas
Docket No.: FEMA-B-1823
City of Clewiston | Community Development Department, 121 Central Avenue, Clewiston, FL 33440.
Unincorporated Areas of Hendry County | Hendry County Engineering Department, 99 East Cowboy Way, LaBelle, FL 33935.
Coffee County, Tennessee and Incorporated Areas
Docket No.: FEMA-B-1905
City of Manchester | City Hall, Health and Codes Department, 200 West Fort Street, Manchester, TN 37355.
Unincorporated Areas of Coffee County | Coffee County Administration Plaza, Zoning and Codes Department, 1329 McArthur Street, Suite 2, Manchester, TN 37355.
Bandera County, Texas and Incorporated Areas
Docket No.: FEMA-B-1861
City of Bandera | City Hall, 511 Main Street, Bandera, TX 78003.
Unincorporated Areas of Bandera County | Bandera County Engineer's Office, 502 11th Street, Bandera, TX 78003.
Kendall County, Texas and Incorporated Areas
Docket No.: FEMA-B-1861
Unincorporated Areas of Kendall County | Kendall County Courthouse, 201 East San Antonio Avenue, Suite 101, Boerne, TX 78006.
Kerr County, Texas and Incorporated Areas
Docket No.: FEMA-B-1861
Unincorporated Areas of Kerr County | Kerr County Engineering Office, 3766 State Highway 27, Kerrville, TX 78028.
Medina County, Texas and Incorporated Areas
Docket No.: FEMA-B-1861
City of Castroville | City Hall, 1209 Fiorella Street, Castroville, TX 78009.
Unincorporated Areas of Medina County | Medina County Environmental Health Group, 925 Avenue Y, Hondo, TX 78861.

[FR Doc. 2019-26424 Filed 12-6-19; 8:45 am]

BILLING CODE 9110-12-P